DEPARTMENT OF DEFENSE

Department of the Air Force

Notice of Availability for Non-Exclusive, Exclusive or Partially Exclusive Licensing of Invention

SUMMARY: Pursuant to the provisions of 37 CFR 404.4, the Department of the Air Force announces the availability for licensing of the invention described in Air Force invention number AFD 881, entitled Light Emitting Diode with a Deoxyribonucleic Acid (DNA) Biopolymer Phosphor Based Coating for Solid State Lighting Object.

FOR FURTHER INFORMATION CONTACT: Air Force Material Command Law Office, AFMC LO/JAZ, 2240 B. Street, Bldg. 11, Wright-Patterson AFB 45433-7109, attention, Bart S. Hersko. Telephone (937) 255-2838; fax (937) 255-3733 ore-mail: Bart.Hersko@wpafb.af.mil.

Bao-Anh Trinh,
Air Force Federal Register Liaison Officer.

[FR Doc. E8-24838 Filed 10-17-08; 8:45 am]

BILLING CODE 5001-05-P